NUCLEAR REGULATORY COMMISSION

Advisory Committee on Reactor Safeguards (ACRS) Meeting of the ACRS Subcommittee on US-APWR; Notice of Meeting

The ACRS Subcommittee on the US-APWR (U.S. Advanced Pressurized Water Reactor) will hold a meeting on May 21-22, 2009, in Room T-2B3, 11545 Rockville Pike, Rockville, Maryland.

Portions of the meeting will be open to public attendance. Some sessions will be closed to discuss proprietary documents.

The agenda for the subject meeting shall be as follows:

Thursday, May 21, 2009—8:30 a.m.-4:30 p.m.

Friday, May 22, 2009—8:30 a.m.-12 p.m.

The Subcommittee will review two reports associated with the US-APWR design. These include an NRC staff Safety Evaluation Report related to the topical report Defense in Depth and Diversity, and a technical report on gas turbine generator systems. The Subcommittee will hear presentations by and hold discussions with representatives of the NRC staff and other interested persons regarding this matter. The Subcommittee will gather information, analyze relevant issues and facts, and formulate proposed positions and actions, as appropriate, for deliberation by the Full Committee.

Members of the public desiring to provide oral statements and/or written comments should notify the Designated Federal Official, Mr. Neil Coleman, (Telephone: 301-415-7656) five days prior to the meeting, if possible, so that appropriate arrangements can be made. Electronic recordings will be permitted. Detailed procedures for the conduct of and participation in ACRS meetings were published in the Federal Register on October 6, 2008 (73 FR 58268-58269).

Further information regarding this meeting can be obtained by contacting the Designated Federal Official between 8 a.m. and 4:15 p.m. (ET). Persons planning to attend this meeting are urged to contact the above named individual at least two working days prior to the meeting to be advised of any potential changes to the agenda.

Dated: April 27, 2009.
Antonio Dias,
Chief, Reactor Safety Branch B, Advisory Committee on Reactor Safeguards.

[FR Doc. E9-10044 Filed 4-30-09; 8:45 am]

BILLING CODE 7590-01-P